DEPARTMENT OF HEALTH AND HUMAN SERVICES

Administration for Children and Families

[CFDA Number: 93.086]

Announcement of the Award of a Single-Source Program Expansion Supplement to One Grantee Under the Community-Centered Responsible Fatherhood Ex-Prisoner Reentry Pilot Project Grants

AGENCY: Office of Family Assistance, ACF, HHS.

ACTION: Announcement of the award of a single-source program expansion supplement to The RIDGE Project in Defiance, OH to support the Community-Centered Responsible Fatherhood Ex-Prisoner Reentry Pilot Project activities that promote responsible fatherhood through the provision of subsidized employment, family reunification, and economic stability services to formerly incarcerated fathers designed to move individuals and families to self-sufficiency.

SUMMARY: The Administration for Children and Families (ACF), Office of Family Assistance (OFA), Division of State and Territory TANF Management (DSTTM) announces the award of a single-source program expansion award of $131,666 to The RIDGE Project in Defiance, OH.

The RIDGE Project is a 501(c)(3), faith-based organization founded in 2000 and provides a broad range of services in Ohio to over 30,000 individuals a year with over 100,000 units of service each year. Their mission is to strengthen families through youth development, marriage and fatherhood programs, workforce development, and reentry programs designed to equip people to achieve social and economic self-sufficiency. Activities include the provision of economic stability, subsidized employment, and supportive services. Upon release from prison, participants continue in the program and are served by The RIDGE Project or one of its regional partners.

The primary purpose is to eliminate barriers for fathers to achieve social and economic self-sufficiency through subsidized employment for individuals preparing to reenter their communities or those who have recently returned to their communities following incarceration. The RIDGE Project also implements three legislatively specified activities: Healthy marriage, responsible parenting, and economic stability.

The program expansion supplement will support the project's culinary arts training and employment, designed to prepare program participants for careers in the culinary field. According to recent data from the People Report Workforce Index, which surveys restaurant human resources departments and recruiters on trends in employment, continued job growth is anticipated in the food service industry, with high levels of recruiting difficulty, and a rise in vacancies/turnovers expected. Employers are reporting that though they have hundreds of applicants, they are finding it increasingly difficult to find employees with the right skill set.

The RIDGE Project will begin offering an 8-week Culinary Arts training to formerly incarcerated fathers who have successfully completed their flagship responsible fatherhood and economic stability program and have evidenced their commitment to responsible fatherhood and show an aptitude and interest in the food service industry.

The program will provide students with the basic skills necessary to function in an entry-level capacity in a restaurant or commercial kitchen. Successful students will complete the program having achieved the ServSafe™ Certification, and will have demonstrated the core skills necessary to begin work in food preparation or as a line cook entrance chef. Finally, upon satisfactory completion, The RIDGE Project's Workforce Development Department will function to assist the fathers with job placement, including subsidized wages in local restaurants.

DATES: September 30, 2012-September 29, 2013.

FOR FURTHER INFORMATION CONTACT: Robin Y. McDonald, Division Director, Office of Family Assistance, 370 L'Enfant Promenade SW., 5th Floor East, Washington, DC 20047. Telephone: (202) 401-5587 Email: robin.mcdonald@acf.hhs.gov.

SUPPLEMENTARY INFORMATION: The Community-Centered Responsible Fatherhood Ex-Prisoner Reentry Pilot Project (HHS-2011-ACF-OFA-FO-0196) grants support to organizations that offer community-centered, pre-and post-release responsible fatherhood and supportive services to formerly incarcerated fathers, with the primary purpose of eliminating barriers and supportive services to social and economic self-sufficiency.

Statutory Authority: The award is made under the authority of Claims Resettlement Act of 2010 (Pub. L. 111-291).

Susan Golonka,
Deputy Director, Office of Family Assistance, Administration for Children and Families.

[FR Doc. 2012-25486 Filed 10-16-12; 8:45 am]

BILLING CODE 4184-35-P